DEPARTMENT OF COMMERCE

International Trade Administration

[A-533-840]

Certain Frozen Warmwater Shrimp From India: Final Results of Antidumping Duty Administrative Review; 2020-2021; Correction

AGENCY: Enforcement and Compliance, International Trade Administration, Department of Commerce.

ACTION: Notice; correction.

SUMMARY: The U.S. Department of Commerce (Commerce) published a notice in the Federal Register of July 7, 2022 in which Commerce issued the final results of the 2020-2021 administrative review of the antidumping order on certain frozen warmwater shrimp from India. This notice incorrectly spelled the name of one company listed in Appendix II.

DATES: Applicable July 25, 2022.

FOR FURTHER INFORMATION CONTACT: Adam Simons, AD/CVD Operations, Office II, Enforcement and Compliance, International Trade Administration, U.S. Department of Commerce, 1401 Constitution Avenue NW, Washington, DC 20230; telephone: (202) 482-6172.

SUPPLEMENTARY INFORMATION:

Correction

In the Federal Register of July 7, 2022, in FR Doc 2022-14419, on page 40505, in the third column, correct the company name “Kay Exports” to “Kay Kay Exports.”

Background

On July 7, 2022, Commerce published in the Federal Register the Final Results.¹ We incorrectly listed the company “Kay Kay Exports” as “Kay Exports” in Appendix II.

¹ See Certain Frozen Warmwater Shrimp from India: Final Results of Antidumping Duty Administrative Review; 2020-2021, 87 FR 40503 (July 7, 2022) (Final Results).

Notification to Interested Parties

This notice is issued and published in accordance with sections 751(a)(1) and 777(i) of the Tariff Act of 1930, as amended.

Dated: July 19, 2022.
Ryan Majerus,
Deputy Assistant Secretary for Policy and Negotiations.

[FR Doc. 2022-15850 Filed 7-22-22; 8:45 am]

BILLING CODE 3510-DS-P